DEPARTMENT OF AGRICULTURE

Agricultural Marketing Service

7 CFR Part 1205

[Doc. #AMS-CN-08-0040; CN-08-002]

Cotton Board Rules and Regulations: Adjusting Supplemental Assessment on Imports (2008 Amendments)

AGENCY: Agricultural Marketing Service, USDA.

ACTION: Proposed rule.

SUMMARY: The Agricultural Marketing Service (AMS) is proposing to amend the Cotton Board Rules and Regulations by increasing the value assigned to imported cotton for calculating supplemental assessments collected for use by the Cotton Research and Promotion Program. An amendment is required to adjust the assessments collected on imported cotton and the cotton content of imported products to be the same as those paid on domestically produced cotton. In addition, AMS proposes to remove Harmonized Tariff Schedule (HTS) numbers that were absorbed into other HTS categories since the last assessment adjustment.

DATES: Comments must be received on or before September 22, 2008.

ADDRESSES: Interested persons are invited to submit written comments concerning this proposed rule to Shethir M. Riva, Chief, Research and Promotion Staff, Cotton and Tobacco Programs, AMS, USDA, Stop 0224, 1400 Independence Ave., SW., Room 2639-S, Washington, DC 20250-0224. Comments should be submitted in triplicate. Comments may also be submitted electronically through www.regulations.gov. All comments received will be made available for public inspection at Cotton and Tobacco Programs, AMS, USDA, Stop 0224, 1400 Independence Ave., SW., Room 2639-S, Washington, DC 20250-0224 during regular business hours.

FOR FURTHER INFORMATION CONTACT: Shethir M. Riva, Chief, Research and Promotion Staff, Cotton and Tobacco Programs, AMS, USDA, Stop 0224, 1400 Independence Ave., SW., Room 2639-S, Washington, DC 20250-0224, telephone (202) 720-6603, facsimile (202) 690-1718, or e-mail at Shethir.Riva@usda.gov.

SUPPLEMENTARY INFORMATION:

Executive Order 12866

The Office of Management and Budget has waived the review process required by Executive Order 12866 for this action.

Executive Order 12988

This proposed rule has been reviewed under Executive Order 12988, Civil Justice Reform. It is not intended to have retroactive effect. This proposed rule would not preempt any state or local laws, regulations, or policies, unless they present an irreconcilable conflict with this rule.

The Cotton Research and Promotion Act provides that administrative proceedings must be exhausted before parties may file suit in court. Under Section 12 of the Act, any person subject to an order may file with the Secretary a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of ruling.

Background

The Cotton Research and Promotion Act Amendments of 1990 enacted by Congress under Subtitle G of Title XIX of the Food, Agriculture, Conservation, and Trade Act of 1990 on November 28, 1990, contained two provisions that authorized changes in the funding procedures for the Cotton Research and Promotion Program.

These provisions are: (1) The assessment of imported cotton and cotton products; and (2) termination of the right of cotton producers to demand a refund of assessments.

An amended, the Cotton Research and Promotion Order was approved by producers and importers voting in a referendum held July 17-26, 1991, and the amended Order was published in the Federal Register on December 10, 1991 (56 FR 64470). A proposed rule implementing the amended Order was published in the Federal Register on December 17, 1991 (56 FR 65450). Implementing rules were published on July 1 and 2, 1992 (57 FR 29181) and (57 FR 29431), respectively.

The last time AMS proposed to amend the Cotton Board Rules and Regulations, specifically to adjust the total rate of assessment per kilogram of imported cotton collected under the Cotton Research and Promotion Program, was on January 12, 2005 (70 FR 2034). This proposed rule resulted from years of consultation with the industry. In the proposed rule, the total rate of assessment would have been calculated by adding together the $1 per bale equivalent assessment and the supplemental assessment, and adjusting the sum to account for the estimated amount of U.S. cotton contained in the imported textile products by the estimated average amount of U.S. cotton contained therein. On November 20, 2006, however, AMS withdrew the proposed rule (71 FR 67072) based on a stakeholder comment questioning the data and the calculation of the proposed importer supplemental assessment. After receiving the comment and other available information, the agency did not believe that the proposed rule would achieve its intended objectives of effectiveness and efficiency. While AMS continues to evaluate this issue and garner additional stakeholders' input and economic data, AMS is proposing to amend the Cotton Board Rules and Regulations to adjust the importer supplemental assessment to be the same as that levied on domestic cotton producers. This proposed rule would increase the value assigned to imported cotton in the Cotton Board Rules and Regulations (7 CFR 1205.510(b)(2)). The total value is determined by a two-part assessment. The first part of the assessment is levied on the weight of cotton produced or imported at a rate of $1 per bale of cotton, which is equivalent to 500 pounds, or $1 per 226.8 kilograms of cotton. The second value is used to calculate the supplemental assessments on imported cotton and the cotton content of imported products. Supplemental assessments are levied at a rate of five-tenths of one percent of the value of domestically produced cotton, imported cotton, and the cotton content of imported products. The supplement assessment is combined with the per bale equivalent to determine the total value and assessment of the imported cotton or cotton-containing products.

The Cotton Research and Promotion Rules and Regulations provide for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in the Federal Register (68 FR 27898) for the purpose of calculating supplemental assessments on imported cotton is $0.8267 cents per kilogram. Using the Average Weighted Price received by U.S. farmers for Upland cotton for the calendar year 2007, the new value of imported cotton is $0.9874 cents per kilogram or $0.1607 cents per kilogram more than the previous value.

An example of the complete assessment formula and how the figures are obtained is as follows:

One bale is equal to 500 pounds.

One kilogram equals 2.2046 pounds.

One pound equals 0.453597 kilograms.

One Dollar Per Bale Assessment Converted to Kilograms

A 500-pound bale equals 226.8 kg. (500 × .453597).

$1 per bale assessment equals $0.002000 per pound (1/500) or $0.004409 per kg. (1/226.8).

Supplemental Assessment of 5/10 of One Percent of the Value of the Cotton Converted to Kilograms.

The 2007 calendar year weighted average price received by producers for Upland cotton is $0.496 per pound or $1.093 per kg. (0.496 × 2.2046).

Five tenths of one percent of the average price in kg. equals $0.005465 per kg. (1.093 × .005).

Total Assessment

The total assessment per kilogram of raw cotton is obtained by adding the $1 per bale equivalent assessment of $0.004409 per kg. and the supplemental assessment $0.005465 per kg. which equals $0.009874 per kg.

The current assessment on imported cotton is $0.008267 per kilogram of imported cotton. The proposed assessment is $0.009874, an increase of $0.001607 per kilogram. This increase reflects the increase in the Average Weighted Price of Upland Cotton Received by U.S. Farmers during the period January through December 2007.

Since the value of cotton is the basis of the supplemental assessment calculation and the figures shown in the right hand column of the Import Assessment Table 1205.510(b) (3) are a result of such a calculation, the figures in this table have been revised. These figures indicate the total assessment per kilogram due for each HTS numbers subject to assessment.

The U.S. Customs and Border Protection informed the agency that several numbers listed in the Import Assessment Table are no longer used or have been combined with other HTS numbers. The HTS numbers that have been removed from the Import Assessment Table are: 5208530000; 6109100005; 6203424005; 6203424050; 6204624040; 6205202030; 6206303020; 5210120000; 6109100009; 6203424010; 6203424055; 6204624045; 6205202035; 6206303030; 5211210025; 6110202065; 6203424015; 6203424060; 6204624050; 6205202046; 6206303040; 5211210035; 6110202075; 6203424020; 6204624005; 6204624055; 6205202050; 6206303050; 5211210050; 6111206040; 6203424025; 6204624010; 6204624060; 6205202060; 6206303060; 5211290090; 6111305040; 6203424030; 6204624020; 6204624065; 6205202065; 6210405020; 5604900000; 6115198010; 6203424035; 6204624025; 6205202015; 6205202070; 6303110000; 5702991010; 6115929000; 6203424040; 6204624030; 6205202020; 6205202075; 5702991090; 6115936020; 6203424045; 6204624035; 6205202025; 6206303010.

A 60-day comment period is provided to comment on the changes to the Cotton Board Rules and Regulations proposed herein. This period is deemed appropriate because this proposal would increase the assessments paid by importers under the Cotton Research and Promotion Order. Accordingly, the change proposed in this rule, if adopted, should be implemented as soon as possible.

Regulatory Flexibility Act

In accordance with the Regulatory Flexibility Act (RFA) [5 U.S.C. 601 et seq.], AMS has examined the economic impact of this rule on small entities. The purpose of the RFA is to fit regulatory actions to the scale of businesses subject to such action so that small businesses will not be unduly or disproportionately burdened. The Small Business Administration defines, in 13 CFR Part 121, small agricultural producers as those having annual receipts of no more than $750,000 and small agricultural service firms (importers) as having receipts of no more than $6,500,000. An estimated 13,000 importers are subject to the rules and regulations issued pursuant to the Cotton Research and Promotion Order. Most are considered small entities as defined by the Small Business Administration.

This proposed rule would only affect importers of cotton and cotton-containing products and would raise the assessments paid by the importers under the Cotton Research and Promotion Order. The current assessment on imported cotton is $0.008267 per kilogram of imported cotton. The proposed assessment is $0.009874, an increase of $0.001607, which was calculated based on the 12-month average of monthly weighted average prices received by U.S. cotton farmers. The calculation, and, thus the increase, is dictated by the Cotton Research and Promotion Rules and Regulations, 7 CFR 1205.510. Section 1205.510, “Levy of assessments”, indicates that “the rate of the supplemental assessment on imported cotton will be the same as that levied on cotton produced within the United States.” In addition, section 1205.510 provides that the 12-month average of monthly weighted average prices received by U.S. farmers will be used as the value of imported cotton for the purpose of levying the supplemental assessment on imported cotton.

Under the Cotton Research and Promotion Program, assessments are used by the Cotton Board to finance research and promotion programs designed to increase consumer demand for Upland cotton in the United States and international markets. In 2007, producer assessments totaled $44 million and importer assessments totaled $30.4 million. According to the Cotton Board, should the volume of cotton products imported into the U.S. remain at the same level in 2007, one could expect the increased assessment to generate approximately $5.9 million.

Importers with line-items appearing on U.S. Customs and Border Protection documentation with value of the cotton contained therein results of an assessment of two dollars ($2.00) or less will not be subject to assessments. In addition, imported cotton and products may be exempt from assessment if the cotton content of products is U.S. produced, cotton other than Upland, or imported products that are eligible to be labeled as 100 percent organic under the National Organic Program (7 CFR Part 205) and who is not a split operation.

The rule does not impose additional recordkeeping requirements on importers.

There are no Federal rules that duplicate, overlap, or conflict with this rule.

Paperwork Reduction

In compliance with Office of Management and Budget (OMB) regulations (5 CFR Part 1320) which implement the Paperwork Reduction Act (PRA) (44 U.S.C. 3501 et seq.) the information collection requirements contained in the regulation to be amended have been previously approved by OMB and were assigned control number 0581-0093. This rule does not result in a change to the information collection and recordkeeping requirements previously approved.

List of Subjects in 7 CFR Part 1205

Advertising, Agricultural research, Cotton, Marketing agreements, Reporting and Recordkeeping requirements.

For the reasons set forth in the preamble 7 CFR part 1205 is proposed to be amended as follows:

PART 1205—COTTON RESEARCH AND PROMOTION

1. The authority citation for Part 1205 continues to read as follows:

Authority: 7 U.S.C. 2101-2118.

2. In § 1205.510, paragraph (b)(2) and the table in paragraph (b)(3)(ii) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $0.9874 cents per kilogram.

(3) * * *

(ii) * * *

Import Assessment Table
(Raw Cotton Fiber)
HTS No. | Conv. fact. | Cents/kg.
5201000500 | 0 | 0.9874
5201001200 | 0 | 0.9874
5201001400 | 0 | 0.9874
5201001800 | 0 | 0.9874
5201002200 | 0 | 0.9874
5201002400 | 0 | 0.9874
5201002800 | 0 | 0.9874
5201003400 | 0 | 0.9874
5201003800 | 0 | 0.9874
5204110000 | 1.1111 | 1.0971
5204200000 | 1.1111 | 1.0971
5205111000 | 1.1111 | 1.0971
5205112000 | 1.1111 | 1.0971
5205121000 | 1.1111 | 1.0971
5205122000 | 1.1111 | 1.0971
5205131000 | 1.1111 | 1.0971
5205132000 | 1.1111 | 1.0971
5205141000 | 1.1111 | 1.0971
5205210020 | 1.1111 | 1.0971
5205210090 | 1.1111 | 1.0971
5205220020 | 1.1111 | 1.0971
5205220090 | 1.1111 | 1.0971
5205230020 | 1.1111 | 1.0971
5205230090 | 1.1111 | 1.0971
5205240020 | 1.1111 | 1.0971
5205240090 | 1.1111 | 1.0971
5205310000 | 1.1111 | 1.0971
5205320000 | 1.1111 | 1.0971
5205330000 | 1.1111 | 1.0971
5205340000 | 1.1111 | 1.0971
5205410020 | 1.1111 | 1.0971
5205410090 | 1.1111 | 1.0971
5205420020 | 1.1111 | 1.0971
5205420090 | 1.1111 | 1.0971
5205440020 | 1.1111 | 1.0971
5205440090 | 1.1111 | 1.0971
5206120000 | 0.5556 | 0.5486
5206130000 | 0.5556 | 0.5486
5206140000 | 0.5556 | 0.5486
5206220000 | 0.5556 | 0.5486
5206230000 | 0.5556 | 0.5486
5206240000 | 0.5556 | 0.5486
5206310000 | 0.5556 | 0.5486
5207100000 | 1.1111 | 1.0971
5207900000 | 0.5556 | 0.5486
5208112020 | 1.1455 | 1.1311
5208112040 | 1.1455 | 1.1311
5208112090 | 1.1455 | 1.1311
5208114020 | 1.1455 | 1.1311
5208114060 | 1.1455 | 1.1311
5208114090 | 1.1455 | 1.1311
5208118090 | 1.1455 | 1.1311
5208124020 | 1.1455 | 1.1311
5208124040 | 1.1455 | 1.1311
5208124090 | 1.1455 | 1.1311
5208126020 | 1.1455 | 1.1311
5208126040 | 1.1455 | 1.1311
5208126060 | 1.1455 | 1.1311
5208126090 | 1.1455 | 1.1311
5208128020 | 1.1455 | 1.1311
5208128090 | 1.1455 | 1.1311
5208130000 | 1.1455 | 1.1311
5208192020 | 1.1455 | 1.1311
5208192090 | 1.1455 | 1.1311
5208194020 | 1.1455 | 1.1311
5208194090 | 1.1455 | 1.1311
5208196020 | 1.1455 | 1.1311
5208196090 | 1.1455 | 1.1311
5208224040 | 1.1455 | 1.1311
5208224090 | 1.1455 | 1.1311
5208226020 | 1.1455 | 1.1311
5208226060 | 1.1455 | 1.1311
5208228020 | 1.1455 | 1.1311
5208230000 | 1.1455 | 1.1311
5208292020 | 1.1455 | 1.1311
5208292090 | 1.1455 | 1.1311
5208294090 | 1.1455 | 1.1311
5208296090 | 1.1455 | 1.1311
5208298020 | 1.1455 | 1.1311
5208312000 | 1.1455 | 1.1311
5208321000 | 1.1455 | 1.1311
5208323020 | 1.1455 | 1.1311
5208323040 | 1.1455 | 1.1311
5208323090 | 1.1455 | 1.1311
5208324020 | 1.1455 | 1.1311
5208324040 | 1.1455 | 1.1311
5208325020 | 1.1455 | 1.1311
5208330000 | 1.1455 | 1.1311
5208392020 | 1.1455 | 1.1311
5208392090 | 1.1455 | 1.1311
5208394090 | 1.1455 | 1.1311
5208396090 | 1.1455 | 1.1311
5208398020 | 1.1455 | 1.1311
5208412000 | 1.1455 | 1.1311
5208416000 | 1.1455 | 1.1311
5208418000 | 1.1455 | 1.1311
5208421000 | 1.1455 | 1.1311
5208423000 | 1.1455 | 1.1311
5208424000 | 1.1455 | 1.1311
5208425000 | 1.1455 | 1.1311
5208430000 | 1.1455 | 1.1311
5208492000 | 1.1455 | 1.1311
5208494020 | 1.1455 | 1.1311
5208494090 | 1.1455 | 1.1311
5208496010 | 1.1455 | 1.1311
5208496090 | 1.1455 | 1.1311
5208498090 | 1.1455 | 1.1311
5208512000 | 1.1455 | 1.1311
5208516060 | 1.1455 | 1.1311
5208518090 | 1.1455 | 1.1311
5208523020 | 1.1455 | 1.1311
5208523045 | 1.1455 | 1.1311
5208523090 | 1.1455 | 1.1311
5208524020 | 1.1455 | 1.1311
5208524045 | 1.1455 | 1.1311
5208524065 | 1.1455 | 1.1311
5208525020 | 1.1455 | 1.1311
5208592025 | 1.1455 | 1.1311
5208592095 | 1.1455 | 1.1311
5208594090 | 1.1455 | 1.1311
5208596090 | 1.1455 | 1.1311
5209110020 | 1.1455 | 1.1311
5209110035 | 1.1455 | 1.1311
5209110090 | 1.1455 | 1.1311
5209120020 | 1.1455 | 1.1311
5209120040 | 1.1455 | 1.1311
5209190020 | 1.1455 | 1.1311
5209190040 | 1.1455 | 1.1311
5209190060 | 1.1455 | 1.1311
5209190090 | 1.1455 | 1.1311
5209210090 | 1.1455 | 1.1311
5209220020 | 1.1455 | 1.1311
5209220040 | 1.1455 | 1.1311
5209290040 | 1.1455 | 1.1311
5209290090 | 1.1455 | 1.1311
5209313000 | 1.1455 | 1.1311
5209316020 | 1.1455 | 1.1311
5209316035 | 1.1455 | 1.1311
5209316050 | 1.1455 | 1.1311
5209316090 | 1.1455 | 1.1311
5209320020 | 1.1455 | 1.1311
5209320040 | 1.1455 | 1.1311
5209390020 | 1.1455 | 1.1311
5209390040 | 1.1455 | 1.1311
5209390060 | 1.1455 | 1.1311
5209390080 | 1.1455 | 1.1311
5209390090 | 1.1455 | 1.1311
5209413000 | 1.1455 | 1.1311
5209416020 | 1.1455 | 1.1311
5209416040 | 1.1455 | 1.1311
5209420020 | 1.0309 | 1.0179
5209420040 | 1.0309 | 1.0179
5209430030 | 1.1455 | 1.1311
5209430050 | 1.1455 | 1.1311
5209490020 | 1.1455 | 1.1311
5209490090 | 1.1455 | 1.1311
5209516035 | 1.1455 | 1.1311
5209516050 | 1.1455 | 1.1311
5209520020 | 1.1455 | 1.1311
5209590025 | 1.1455 | 1.1311
5209590040 | 1.1455 | 1.1311
5209590090 | 1.1455 | 1.1311
5210114020 | 0.6873 | 0.6786
5210114040 | 0.6873 | 0.6786
5210116020 | 0.6873 | 0.6786
5210116040 | 0.6873 | 0.6786
5210116060 | 0.6873 | 0.6786
5210118020 | 0.6873 | 0.6786
5210192090 | 0.6873 | 0.6786
5210214040 | 0.6873 | 0.6786
5210216020 | 0.6873 | 0.6786
5210216060 | 0.6873 | 0.6786
5210218020 | 0.6873 | 0.6786
5210314020 | 0.6873 | 0.6786
5210314040 | 0.6873 | 0.6786
5210316020 | 0.6873 | 0.6786
5210318020 | 0.6873 | 0.6786
5210414000 | 0.6873 | 0.6786
5210416000 | 0.6873 | 0.6786
5210418000 | 0.6873 | 0.6786
5210498090 | 0.6873 | 0.6786
5210514040 | 0.6873 | 0.6786
5210516020 | 0.6873 | 0.6786
5210516040 | 0.6873 | 0.6786
5210516060 | 0.6873 | 0.6786
5211110090 | 0.6873 | 0.6786
5211120020 | 0.6873 | 0.6786
5211190020 | 0.6873 | 0.6786
5211190060 | 0.6873 | 0.6786
5211320020 | 0.6873 | 0.6786
5211390040 | 0.6873 | 0.6786
5211390060 | 0.6873 | 0.6786
5211490020 | 0.6873 | 0.6786
5211490090 | 0.6873 | 0.6786
5211590025 | 0.6873 | 0.6786
5212146090 | 0.9164 | 0.9049
5212156020 | 0.9164 | 0.9049
5212216090 | 0.9164 | 0.9049
5509530030 | 0.5556 | 0.5486
5509530060 | 0.5556 | 0.5486
5513110020 | 0.4009 | 0.3958
5513110040 | 0.4009 | 0.3958
5513110060 | 0.4009 | 0.3958
5513110090 | 0.4009 | 0.3958
5513120000 | 0.4009 | 0.3958
5513130020 | 0.4009 | 0.3958
5513210020 | 0.4009 | 0.3958
5513310000 | 0.4009 | 0.3958
5514120020 | 0.4009 | 0.3958
5516420060 | 0.4009 | 0.3958
5516910060 | 0.4009 | 0.3958
5516930090 | 0.4009 | 0.3958
5601210010 | 1.1455 | 1.1311
5601210090 | 1.1455 | 1.1311
5601300000 | 1.1455 | 1.1311
5602109090 | 0.5727 | 0.5655
5602290000 | 1.1455 | 1.1311
5602906000 | 0.526 | 0.5194
5607909000 | 0.8889 | 0.8777
5608901000 | 1.1111 | 1.0971
5608902300 | 1.1111 | 1.0971
5609001000 | 1.1111 | 1.0971
5609004000 | 0.5556 | 0.5486
5701104000 | 0.0556 | 0.0549
5701109000 | 0.1111 | 0.1097
5701901010 | 1.0444 | 1.0312
5702109020 | 1.1 | 1.0861
5702312000 | 0.0778 | 0.0768
5702411000 | 0.0722 | 0.0713
5702412000 | 0.0778 | 0.0768
5702421000 | 0.0778 | 0.0768
5702913000 | 0.0889 | 0.0878
5703900000 | 0.4489 | 0.4432
5801210000 | 1.1455 | 1.1311
5801230000 | 1.1455 | 1.1311
5801250010 | 1.1455 | 1.1311
5801250020 | 1.1455 | 1.1311
5801260020 | 1.1455 | 1.1311
5802190000 | 1.1455 | 1.1311
5802300030 | 0.5727 | 0.5655
5804291000 | 1.1455 | 1.1311
5806200010 | 0.3534 | 0.3489
5806200090 | 0.3534 | 0.3489
5806310000 | 1.1455 | 1.1311
5806400000 | 0.4296 | 0.4242
5808107000 | 0.5727 | 0.5655
5808900010 | 0.5727 | 0.5655
5811002000 | 1.1455 | 1.1311
6001106000 | 1.1455 | 1.1311
6001210000 | 0.8591 | 0.8483
6001220000 | 0.2864 | 0.2828
6001910010 | 0.8591 | 0.8483
6001910020 | 0.8591 | 0.8483
6001920020 | 0.2864 | 0.2828
6001920030 | 0.2864 | 0.2828
6001920040 | 0.2864 | 0.2828
6003203000 | 0.8681 | 0.8572
6003306000 | 0.2894 | 0.2858
6003406000 | 0.2894 | 0.2858
6005210000 | 0.8681 | 0.8572
6005220000 | 0.8681 | 0.8572
6005230000 | 0.8681 | 0.8572
6005240000 | 0.8681 | 0.8572
6005310010 | 0.2894 | 0.2858
6005310080 | 0.2894 | 0.2858
6005320010 | 0.2894 | 0.2858
6005320080 | 0.2894 | 0.2858
6005330010 | 0.2894 | 0.2858
6005330080 | 0.2894 | 0.2858
6005340010 | 0.2894 | 0.2858
6005340080 | 0.2894 | 0.2858
6005410010 | 0.2894 | 0.2858
6005410080 | 0.2894 | 0.2858
6005420010 | 0.2894 | 0.2858
6005420080 | 0.2894 | 0.2858
6005430010 | 0.2894 | 0.2858
6005430080 | 0.2894 | 0.2858
6005440010 | 0.2894 | 0.2858
6005440080 | 0.2894 | 0.2858
6006211000 | 1.1574 | 1.1428
6006221000 | 1.1574 | 1.1428
6006231000 | 1.1574 | 1.1428
6006241000 | 1.1574 | 1.1428
6006310040 | 0.1157 | 0.1142
6006310080 | 0.1157 | 0.1142
6006320040 | 0.1157 | 0.1142
6006320080 | 0.1157 | 0.1142
6006330040 | 0.1157 | 0.1142
6006330080 | 0.1157 | 0.1142
6006340040 | 0.1157 | 0.1142
6006340080 | 0.1157 | 0.1142
6006410085 | 0.1157 | 0.1142
6006420085 | 0.1157 | 0.1142
6006430085 | 0.1157 | 0.1142
6006440085 | 0.1157 | 0.1142
6101200010 | 1.0094 | 0.9967
6101200020 | 1.0094 | 0.9967
6102200010 | 1.0094 | 0.9967
6102200020 | 1.0094 | 0.9967
6103421020 | 0.8806 | 0.8695
6103421040 | 0.8806 | 0.8695
6103421050 | 0.8806 | 0.8695
6103421070 | 0.8806 | 0.8695
6103431520 | 0.2516 | 0.2484
6103431540 | 0.2516 | 0.2484
6103431550 | 0.2516 | 0.2484
6103431570 | 0.2516 | 0.2484
6104220040 | 0.9002 | 0.8889
6104220060 | 0.9002 | 0.8889
6104320000 | 0.9207 | 0.9091
6104420010 | 0.9002 | 0.8889
6104420020 | 0.9002 | 0.8889
6104520010 | 0.9312 | 0.9195
6104520020 | 0.9312 | 0.9195
6104622006 | 0.8806 | 0.8695
6104622011 | 0.8806 | 0.8695
6104622016 | 0.8806 | 0.8695
6104622021 | 0.8806 | 0.8695
6104622026 | 0.8806 | 0.8695
6104622028 | 0.8806 | 0.8695
6104622030 | 0.8806 | 0.8695
6104622060 | 0.8806 | 0.8695
6104632006 | 0.3774 | 0.3726
6104632011 | 0.3774 | 0.3726
6104632026 | 0.3774 | 0.3726
6104632028 | 0.3774 | 0.3726
6104632030 | 0.3774 | 0.3726
6104632060 | 0.3774 | 0.3726
6104692030 | 0.3858 | 0.3809
6105100010 | 0.985 | 0.9726
6105100020 | 0.985 | 0.9726
6105100030 | 0.985 | 0.9726
6105202010 | 0.3078 | 0.3039
6105202030 | 0.3078 | 0.3039
6106100010 | 0.985 | 0.9726
6106100020 | 0.985 | 0.9726
6106100030 | 0.985 | 0.9726
6106202010 | 0.3078 | 0.3039
6106202030 | 0.3078 | 0.3039
6107110010 | 1.1322 | 1.1179
6107110020 | 1.1322 | 1.1179
6107120010 | 0.5032 | 0.4969
6107210010 | 0.8806 | 0.8695
6107220015 | 0.3774 | 0.3726
6107220025 | 0.3774 | 0.3726
6107910040 | 1.2581 | 1.2422
6108210010 | 1.2445 | 1.2288
6108210020 | 1.2445 | 1.2288
6108310010 | 1.1201 | 1.1060
6108310020 | 1.1201 | 1.1060
6108320010 | 0.2489 | 0.2458
6108320015 | 0.2489 | 0.2458
6108320025 | 0.2489 | 0.2458
6108910005 | 1.2445 | 1.2288
6108910015 | 1.2445 | 1.2288
6108910025 | 1.2445 | 1.2288
6108910030 | 1.2445 | 1.2288
6108920030 | 0.2489 | 0.2458
6109100007 | 0.9956 | 0.9831
6109100012 | 0.9956 | 0.9831
6109100014 | 0.9956 | 0.9831
6109100018 | 0.9956 | 0.9831
6109100023 | 0.9956 | 0.9831
6109100027 | 0.9956 | 0.9831
6109100037 | 0.9956 | 0.9831
6109100040 | 0.9956 | 0.9831
6109100045 | 0.9956 | 0.9831
6109100060 | 0.9956 | 0.9831
6109100065 | 0.9956 | 0.9831
6109100070 | 0.9956 | 0.9831
6109901007 | 0.3111 | 0.3072
6109901009 | 0.3111 | 0.3072
6109901049 | 0.3111 | 0.3072
6109901050 | 0.3111 | 0.3072
6109901060 | 0.3111 | 0.3072
6109901065 | 0.3111 | 0.3072
6109901090 | 0.3111 | 0.3072
6110202005 | 1.1837 | 1.1688
6110202010 | 1.1837 | 1.1688
6110202015 | 1.1837 | 1.1688
6110202020 | 1.1837 | 1.1688
6110202025 | 1.1837 | 1.1688
6110202030 | 1.1837 | 1.1688
6110202035 | 1.1837 | 1.1688
6110202040 | 1.1574 | 1.1428
6110202045 | 1.1574 | 1.1428
6110909022 | 0.263 | 0.2597
6110909024 | 0.263 | 0.2597
6110909030 | 0.3946 | 0.3896
6110909040 | 0.263 | 0.2597
6110909042 | 0.263 | 0.2597
6111201000 | 1.2581 | 1.2422
6111202000 | 1.2581 | 1.2422
6111203000 | 1.0064 | 0.9937
6111205000 | 1.0064 | 0.9937
6111206010 | 1.0064 | 0.9937
6111206020 | 1.0064 | 0.9937
6111206030 | 1.0064 | 0.9937
6111305020 | 0.2516 | 0.2484
6112110050 | 0.7548 | 0.7453
6112120010 | 0.2516 | 0.2484
6112120030 | 0.2516 | 0.2484
6112120040 | 0.2516 | 0.2484
6112120050 | 0.2516 | 0.2484
6112120060 | 0.2516 | 0.2484
6112390010 | 1.1322 | 1.1179
6112490010 | 0.9435 | 0.9316
6114200005 | 0.9002 | 0.8889
6114200010 | 0.9002 | 0.8889
6114200015 | 0.9002 | 0.8889
6114200020 | 1.286 | 1.2698
6114200040 | 0.9002 | 0.8889
6114200046 | 0.9002 | 0.8889
6114200052 | 0.9002 | 0.8889
6114200060 | 0.9002 | 0.8889
6114301010 | 0.2572 | 0.2540
6114301020 | 0.2572 | 0.2540
6114303030 | 0.2572 | 0.2540
6116101300 | 0.3655 | 0.3609
6116101720 | 0.8528 | 0.8421
6116926420 | 1.0965 | 1.0827
6116926430 | 1.2183 | 1.2029
6116926440 | 1.0965 | 1.0827
6116928800 | 1.0965 | 1.0827
6117809510 | 0.9747 | 0.9624
6117809540 | 0.3655 | 0.3609
6201121000 | 0.948 | 0.9361
6201122010 | 0.8953 | 0.8840
6201122050 | 0.6847 | 0.6761
6201122060 | 0.6847 | 0.6761
6201134030 | 0.2633 | 0.2600
6201921000 | 0.9267 | 0.9150
6201921500 | 1.1583 | 1.1437
6201922010 | 1.0296 | 1.0166
6201922021 | 1.2871 | 1.2709
6201922031 | 1.2871 | 1.2709
6201922041 | 1.2871 | 1.2709
6201922051 | 1.0296 | 1.0166
6201922061 | 1.0296 | 1.0166
6201931000 | 0.3089 | 0.3050
6201933511 | 0.2574 | 0.2542
6201933521 | 0.2574 | 0.2542
6201999060 | 0.2574 | 0.2542
6202121000 | 0.9372 | 0.9254
6202122010 | 1.1064 | 1.0925
6202122025 | 1.3017 | 1.2853
6202122050 | 0.8461 | 0.8354
6202122060 | 0.8461 | 0.8354
6202134005 | 0.2664 | 0.2630
6202134020 | 0.333 | 0.3288
6202921000 | 1.0413 | 1.0282
6202921500 | 1.0413 | 1.0282
6202922026 | 1.3017 | 1.2853
6202922061 | 1.0413 | 1.0282
6202922071 | 1.0413 | 1.0282
6202931000 | 0.3124 | 0.3085
6202935011 | 0.2603 | 0.2570
6202935021 | 0.2603 | 0.2570
6203122010 | 0.1302 | 0.1286
6203221000 | 1.3017 | 1.2853
6203322010 | 1.2366 | 1.2210
6203322040 | 1.2366 | 1.2210
6203332010 | 0.1302 | 0.1286
6203392010 | 1.1715 | 1.1567
6203399060 | 0.2603 | 0.2570
6203422010 | 0.9961 | 0.9835
6203422025 | 0.9961 | 0.9835
6203422050 | 0.9961 | 0.9835
6203422090 | 0.9961 | 0.9835
6203431500 | 0.1245 | 0.1229
6203434010 | 0.1232 | 0.1216
6203434020 | 0.1232 | 0.1216
6203434030 | 0.1232 | 0.1216
6203434040 | 0.1232 | 0.1216
6203498045 | 0.249 | 0.2459
6204132010 | 0.1302 | 0.1286
6204192000 | 0.1302 | 0.1286
6204198090 | 0.2603 | 0.2570
6204221000 | 1.3017 | 1.2853
6204223030 | 1.0413 | 1.0282
6204223040 | 1.0413 | 1.0282
6204223050 | 1.0413 | 1.0282
6204223060 | 1.0413 | 1.0282
6204223065 | 1.0413 | 1.0282
6204292040 | 0.3254 | 0.3213
6204322010 | 1.2366 | 1.2210
6204322030 | 1.0413 | 1.0282
6204322040 | 1.0413 | 1.0282
6204423010 | 1.2728 | 1.2568
6204423030 | 0.9546 | 0.9426
6204423040 | 0.9546 | 0.9426
6204423050 | 0.9546 | 0.9426
6204423060 | 0.9546 | 0.9426
6204522010 | 1.2654 | 1.2495
6204522030 | 1.2654 | 1.2495
6204522040 | 1.2654 | 1.2495
6204522070 | 1.0656 | 1.0522
6204522080 | 1.0656 | 1.0522
6204533010 | 0.2664 | 0.2630
6204594060 | 0.2664 | 0.2630
6204622010 | 0.9961 | 0.9835
6204622025 | 0.9961 | 0.9835
6204622050 | 0.9961 | 0.9835
6204633510 | 0.2546 | 0.2514
6204633530 | 0.2546 | 0.2514
6204633532 | 0.2437 | 0.2406
6204633540 | 0.2437 | 0.2406
6204692510 | 0.249 | 0.2459
6204692540 | 0.2437 | 0.2406
6204699044 | 0.249 | 0.2459
6204699046 | 0.249 | 0.2459
6204699050 | 0.249 | 0.2459
6205302010 | 0.3113 | 0.3074
6205302030 | 0.3113 | 0.3074
6205302040 | 0.3113 | 0.3074
6205302050 | 0.3113 | 0.3074
6205302080 | 0.3113 | 0.3074
6206100040 | 0.1245 | 0.1229
6206403010 | 0.3113 | 0.3074
6206403030 | 0.3113 | 0.3074
6206900040 | 0.249 | 0.2459
6207110000 | 1.0852 | 1.0715
6207199010 | 0.3617 | 0.3571
6207210030 | 1.1085 | 1.0945
6207220000 | 0.3695 | 0.3648
6207911000 | 1.1455 | 1.1311
6207913010 | 1.1455 | 1.1311
6207913020 | 1.1455 | 1.1311
6208210010 | 1.0583 | 1.0450
6208210020 | 1.0583 | 1.0450
6208220000 | 0.1245 | 0.1229
6208911010 | 1.1455 | 1.1311
6208911020 | 1.1455 | 1.1311
6208913010 | 1.1455 | 1.1311
6209201000 | 1.1577 | 1.1431
6209203000 | 0.9749 | 0.9626
6209205030 | 0.9749 | 0.9626
6209205035 | 0.9749 | 0.9626
6209205040 | 1.2186 | 1.2032
6209205045 | 0.9749 | 0.9626
6209205050 | 0.9749 | 0.9626
6209303020 | 0.2463 | 0.2432
6209303040 | 0.2463 | 0.2432
6210109010 | 0.2291 | 0.2262
6210403000 | 0.0391 | 0.0386
6211111010 | 0.1273 | 0.1257
6211111020 | 0.1273 | 0.1257
6211118010 | 1.1455 | 1.1311
6211118020 | 1.1455 | 1.1311
6211320007 | 0.8461 | 0.8354
6211320010 | 1.0413 | 1.0282
6211320015 | 1.0413 | 1.0282
6211320030 | 0.9763 | 0.9640
6211320060 | 0.9763 | 0.9640
6211320070 | 0.9763 | 0.9640
6211330010 | 0.3254 | 0.3213
6211330030 | 0.3905 | 0.3856
6211330035 | 0.3905 | 0.3856
6211330040 | 0.3905 | 0.3856
6211420010 | 1.0413 | 1.0282
6211420020 | 1.0413 | 1.0282
6211420025 | 1.1715 | 1.1567
6211420060 | 1.0413 | 1.0282
6211420070 | 1.1715 | 1.1567
6211430010 | 0.2603 | 0.2570
6211430030 | 0.2603 | 0.2570
6211430040 | 0.2603 | 0.2570
6211430050 | 0.2603 | 0.2570
6211430060 | 0.2603 | 0.2570
6211430066 | 0.2603 | 0.2570
6212105020 | 0.2412 | 0.2382
6212109010 | 0.9646 | 0.9524
6212109020 | 0.2412 | 0.2382
6212200020 | 0.3014 | 0.2976
6212900030 | 0.1929 | 0.1905
6213201000 | 1.1809 | 1.1660
6213202000 | 1.0628 | 1.0494
6213901000 | 0.4724 | 0.4664
6214900010 | 0.9043 | 0.8929
6216000800 | 0.2351 | 0.2321
6216001720 | 0.6752 | 0.6667
6216003800 | 1.2058 | 1.1906
6216004100 | 1.2058 | 1.1906
6217109510 | 1.0182 | 1.0054
6217109530 | 0.2546 | 0.2514
6301300010 | 0.8766 | 0.8656
6301300020 | 0.8766 | 0.8656
6302100005 | 1.1689 | 1.1542
6302100008 | 1.1689 | 1.1542
6302100015 | 1.1689 | 1.1542
6302215010 | 0.8182 | 0.8079
6302215020 | 0.8182 | 0.8079
6302217010 | 1.1689 | 1.1542
6302217020 | 1.1689 | 1.1542
6302217050 | 1.1689 | 1.1542
6302219010 | 0.8182 | 0.8079
6302219020 | 0.8182 | 0.8079
6302219050 | 0.8182 | 0.8079
6302222010 | 0.4091 | 0.4039
6302222020 | 0.4091 | 0.4039
6302313010 | 0.8182 | 0.8079
6302313050 | 1.1689 | 1.1542
6302315050 | 0.8182 | 0.8079
6302317010 | 1.1689 | 1.1542
6302317020 | 1.1689 | 1.1542
6302317040 | 1.1689 | 1.1542
6302317050 | 1.1689 | 1.1542
6302319010 | 0.8182 | 0.8079
6302319040 | 0.8182 | 0.8079
6302319050 | 0.8182 | 0.8079
6302322020 | 0.4091 | 0.4039
6302322040 | 0.4091 | 0.4039
6302402010 | 0.9935 | 0.9810
6302511000 | 0.5844 | 0.5770
6302512000 | 0.8766 | 0.8656
6302513000 | 0.5844 | 0.5770
6302514000 | 0.8182 | 0.8079
6302600010 | 1.1689 | 1.1542
6302600020 | 1.052 | 1.0387
6302600030 | 1.052 | 1.0387
6302910005 | 1.052 | 1.0387
6302910015 | 1.1689 | 1.1542
6302910025 | 1.052 | 1.0387
6302910035 | 1.052 | 1.0387
6302910045 | 1.052 | 1.0387
6302910050 | 1.052 | 1.0387
6302910060 | 1.052 | 1.0387
6303910010 | 0.6429 | 0.6348
6303910020 | 0.6429 | 0.6348
6304111000 | 1.0629 | 1.0495
6304190500 | 1.052 | 1.0387
6304191000 | 1.1689 | 1.1542
6304191500 | 0.4091 | 0.4039
6304192000 | 0.4091 | 0.4039
6304910020 | 0.9351 | 0.9233
6304920000 | 0.9351 | 0.9233
6505302070 | 0.3113 | 0.3074
6505901540 | 0.181 | 0.1787
6505902060 | 0.9935 | 0.9810
6505902545 | 0.5844 | 0.5770

* * * * *

Authority: 7 U.S.C. 2101-2118.

Dated: July 21, 2008.
Lloyd C. Day,
Administrator, Agricultural Marketing Service.

[FR Doc. E8-16957 Filed 7-23-08; 8:45 am]

BILLING CODE 3410-02-P